DEPARTMENT OF DEFENSE

Department of the Army

Privacy Act of 1974; System of Records

AGENCY: Department of the Army, DoD.

ACTION: Notice to amend systems of records.

SUMMARY: The Department of the Army is amending two systems of records notices in its existing inventory of record systems subject to the Privacy Act of 1974, (5 U.S.C. 552a), as amended.

DATES: This proposed action will be effective without further notice on February 7, 2001 unless comments are received which result in a contrary determination.

ADDRESSES: Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: December 20, 2000.
Patricia L. Toppings,
Alternate OSD Federal Register Liaison Officer, Department of Defense.

A0025-6USASC

System name:

Military Affiliate Radio System (August 7, 1997, 62 FR 42523).

Changes:

* * * * *

Categories of records in the system:

Replace last sentence with the following ‘Federal Communications Commission, Army Military Affiliate Radio System call-sign, relevant inquiries, records and reports.’

* * * * *

Routine uses of records maintained in the system, including categories of users and the purposes of such uses:

Delete second paragraph and replace with ‘Information may be disclosed to federal supply agencies in connection with individual's participation in the Army MARS Equipment Program.’

* * * * *

Storage:

Delete entry and replace with ‘Cards, paper records in file folders, discs, listings and electronic storage media’.

Retrievability:

Delete entry and replace with ‘By member's name, amateur and or Military Affiliate Radio call signs.’

Safeguards:

Delete entry and replace with ‘Information is maintained in buildings accessible to authorized personnel in the performance of their duties. Automated records are further protected by a password assigned to designated personnel.’

* * * * *

A0025-6USASC

System name:

Military Affiliate Radio System (August 7, 1997, 62 FR 42523).

System location:

U.S. Army Signal Command, Fort Huachuca, AZ 85613-5000.

Categories of individuals covered by the system:

Individuals having a valid amateur radio station license issued by the Federal Communications Commission, Army Military Affiliate Radio System call-sign, relevant inquiries, records and reports.

Categories of records in the system:

Applicant's name, home address and telephone number, licensing data and call-sign provided by Federal Communications Commission, Army MARS call-sign, relevant inquiries/records and reports.

Authority for maintenance of the system:

10 U.S.C. 3013, Secretary of the Army: DoD Directive 4650.2, Military Affiliate Radio System; Army Regulation 25-6, Military Affiliate Radio System; and E.O. 9397 (SSN).

Purpose(s):

To provide a potential reserve of trained radio communications personnel for military duty when needed and/or to provide auxiliary communications for military, civil, and/or disaster officials during periods of emergency.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to federal supply agencies in connection with individual's participation in the Army MARS Equipment Program.

The DoD ‘Blanket Routine Uses’ set forth at the beginning of the Army's compilation of systems of records notices also apply to this system.

Policies and practices for storing, retrieving, accessing, retaining, and disposing of records in the system:

Storage:

Cards, paper records in file folders, discs, listings and electronic storage media.

Retrievability:

By member's name, amateur and or Military Affiliate Radio call signs.

Safeguards:

Information is maintained in buildings accessible to authorized personnel in the performance of their duties. Automated records are further protected by a password assigned to designated personnel.

Retention and disposal:

Destroy on each renewal or two years after termination of membership.

System manager(s) and address:

Commander, U.S. Army Signal Command, Fort Huachuca, AZ 95613-5000.

Notification procedure:

Individual seeking to determine whether information about themselves is contained in this system should address written inquiries to the Commander, U.S. Army Signal Command, Fort Huachuca, AZ 95613-5000.

Individual should provide the name under which licensed is the Army Military Affiliate Radio System program, amateur and or Military Affiliate Radio System call sign, present address, call sign, and signature.

Record access procedures:

Individuals seeking to access records about themselves contained in this record system should address written inquiries to the Commander, U.S. Army Signal Command, Fort Huachuca, AZ 95613-5000.

Individual should provide the name under which licensed is the Army Military Affiliate Radio System program, amateur and or Military Affiliate Radio System call sign, present address, call sign, and signature.

Contesting record procedures:

The Army's rules for accessing records, and for contesting contents and appealing initial agency determinations are contained in Army Regulation 340-21; 32 CFR part 505; or may be obtained from the system manager.

Record source categories:

From the individual and the Federal Communications Commission.

Exemptions claimed for the system:

None.

A0672-5-1 TAPC

System name:

Military Awards Case File (February 22, 1993, 58 FR 10002).

Changes:

System identifier:

Delete entry and replace with ‘A0600-8-22 TAPC’.

* * * * *

Authority for maintenance of the system:

Delete entry and replace with ‘10 U.S.C. Chapters 57 and 357, Decorations and Awards; 10 U.S.C. 3013, Secretary of the Army; Army Regulation 600-8-22, Military Awards; and E.O. 9397 (SSN).’

* * * * *

Storage:

Delete entry and replace with ‘Paper records in file folders and electronic storage media.’

Retrievability:

Delete entry and replace with ‘By nominee's name, service number and/or Social Security Number.’

Safeguards:

Delete entry and replace with ‘Records are maintained in locked file cabinets in secure buildings and are accessible only to designated personnel in the performance of their assigned duties.’

Retention and disposal:

Delete entry and replace with ‘Documents related to providing information about awards given to individuals, i.e. announcements, lists, cards, and similar information destroy after 2 years. Approval and disapproval authority: Approved awards relating to wartime and combat activities are held permanently; Approved peacetime awards and all disapproved awards are retired to the Washington National Records Center and are destroyed after 25 years. Offices not within the disapproval or approval authority maintain records for 2 years then destroy. Proficiency awards are destroyed on transfer of the individual. Public award cases: Exercising approval authority maintain records for 56 years then destroy; Non-approval authority offices maintain records for 2 years then destroy. Special achievement awards: Exercising awarding authority maintain records for 5 years then destroy; Non-Award authority offices maintain for 2 years then destroy.”

System manager(s) and address:

Delete entry and replace with ‘Commander, U.S. Total Army Personnel Command, Awards Policy Division, 200 Stovall Street, Alexandria, VA 22332-0471.’

* * * * *

A0600-8-22 TAPC

System name:

Military Awards Case File.

System location:

U.S. Total Army Personnel Command, 200 Stovall Street, Alexandria, VA 22332-0471. Segments exist at Army commands which have been delegated authority for approval of an award. Official mailing addresses may be obtained from the U.S. Total Army Personnel Command, 200 Stovall Street, Alexandria, VA 22332-0471.

Categories of individuals covered by the system:

Military personnel on active duty, members of reserve components, U.S. civilians serving with U.S. Army units in a combat zone, and deceased former members of the U.S. Army.

Categories of records in the system:

Files include recommendations for an award; endorsements; award board approvals/disapprovals; citation texts; Department of Army letter orders/general orders; related papers supporting the award; correspondence among the Army; service member, and individuals having knowledge/information relating to the service member concerned or the act or achievement for which an award is recommended.

Authority for maintenance of the system:

10 U.S.C. Chapters 57 and 357, Decorations and Awards; 10 U.S.C. 3013, Secretary of the Army; Army Regulation 600-8-22, Military Awards; and E.O. 9397 (SSN).

Purpose(s):

To consider individual nominations for awards and/or decorations; record final action; maintain individual award case files.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to public and private organizations including news media, which grant or publicize awards or honors.

The DoD ‘Blanket Routine Uses’ set forth at the beginning of the Army's compilation of systems of records notices also apply to this system.

Policies and practices for storing, retrieving, accessing, retaining, and disposing of records in the system:

Storage:

Paper records in file folders and electronic storage media.

Retrievability:

By nominee's name, service number and/or Social Security Number.

Safeguards:

Records are maintained in locked file cabinets in secure buildings and are accessible only to designated personnel in the performance of their assigned duties.

Retention and disposal:

Documents related to providing information about awards given to individuals, i.e., announcements, lists, cards, and similar information destroy after 2 years. Approval and disapproval authority: Approved awards relating to wartime and combat activities are held permanently; Approved peacetime awards and all disapproved awards are retired to the Washington National Records Center and are destroyed after 25 years. Offices not within the disapproval or approval authority maintain records for 2 years then destroy. Proficiency awards are destroyed on transfer of the individual. Public award cases: Exercising approval authority maintain records for 56 years then destroy; Non-approval authority offices maintain records for 2 years then destroy. Special achievement awards: Exercising awarding authority maintain records for 5 years then destroy; Non-Award authority offices maintain for 2 years then destroy.

System manager(s) and address:

Commander, U.S. Total Army Personnel Command, Awards Policy Division, 200 Stovall Street, Alexandria, VA 22332-0471.

Notification procedure:

Individuals seeking to determine whether information about themselves is contained in this system should address written inquiries to the Commander, U.S. Total Army Personnel Command, Awards Policy Division, 200 Stovall Street, Alexandria, VA 22332-0471.

Individual should provide the full name, service number and/or Social Security Number, grade and branch of service, name of award/honor, and current address.

Record access procedures:

Individuals seeking access to information about themselves contained in this system should address written inquiries to the Commander, U.S. Total Army Personnel Command, Awards Policy Division, 200 Stovall Street, Alexandria, VA 22332-0471.

Individual should provide the full name, service number and/or Social Security Number, grade and branch of service, name of award/honor, and current address.

Contesting record procedures:

The Army's rules for accessing records, and for contesting contents and appealing initial agency determinations are contained in Army Regulation 340-21; 32 CFR part 505; or may be obtained from the system manager.

Record source categories:

From Recommendation for Awards (DA Form 638) with supporting records, forms, statements, letters, and similar documents originated by persons other than the awardee and other individuals having information useful in making an award determination.

Exemptions claimed for the system:

None.

[FR Doc. 01-413 Filed 1-5-01; 8:45 am]

BILLING CODE 5001-10-P